GOVERNMENT ACCOUNTABILITY OFFICE

Medicaid and CHIP Payment and Access Commission Nominations

AGENCY: Government Accountability Office (GAO).

ACTION: Notice on letters of nomination.

SUMMARY: The Children's Health Insurance Program Reauthorization Act of 2009 (CHIPRA) established the Medicaid and CHIP Payment and Access Commission (MACPAC) to review Medicaid and CHIP access and payment policies and to advise Congress on issues affecting Medicaid and CHIP. CHIPRA gave the Comptroller General of the United States responsibility for appointing MACPAC's 17 members, with initial appointments to be made not later than January 1, 2010. For these appointments, I am announcing the following: Letters of nomination and resumes will be accepted through October 1st, 2009 to ensure adequate opportunity for review and consideration of nominees prior to appointment of members.

ADDRESSES: GAO: 441 G Street, NW., Washington, DC 20548 or MACPACappointments@gao.gov.

FOR FURTHER INFORMATION: GAO: Office of Public Affairs, (202) 512-4800, Public Law 111-3, Section 506; 42 U.S.C. 1396.

Gene L. Dodaro,
Acting Comptroller General of the United States.

[FR Doc. E9-18596 Filed 8-4-09; 8:45 am]

BILLING CODE 1610-02-M